DEPARTMENT OF ENERGY

Federal Energy Regulatory Commission

[Project No. 14557-000]

Mid-Atlantic Hydro, LLC; Notice of Preliminary Permit Application Accepted for Filing and Soliciting Comments, Motions To Intervene, and Competing Applications

On September 25, 2013, Mid-Atlantic Hydro, LLC, filed an application for a preliminary permit, pursuant to section 4(f) of the Federal Power Act (FPA), proposing to study the feasibility of the Button Rock Hydroelectric Project (or project) to be located near the town of Lyons, Boulder County, Colorado. The sole purpose of a preliminary permit, if issued, is to grant the permit holder priority to file a license application during the permit term. A preliminary permit does not authorize the permit holder to perform any land-disturbing activities or otherwise enter upon lands or waters owned by others without the owners' express permission.

The proposed project would consist of the following: (1) A reservoir having a surface area of 248 acres and a storage capacity of 16,084 acre-feet; (2) a 925-foot-long, 210-foot-high concrete-face earthen dam, with a crest width of 30 feet and a maximum base width of 1,030 feet; (3) an existing 54-inch outlet valve situated near the right abutment and passing through the dam near the valley floor; (4) a steel penstock connecting the outlet valve to the existing conduit and extending downstream for 100 feet; (5) a reinforced concrete powerhouse; (6) one 1.5-MW Francis turbine generating unit; and (7) a 2.3-kilovolt transmission line extending 1.75 miles from the proposed substation to an existing distribution line located at the Longmont Dam. The estimated annual generation of the Button Rock Hydroelectric Project would be 5,000 megawatt-hours.

Applicant Contact: Ms. Kristina Johnson or Mr. John Collins, Mid-Atlantic Hydro, LLC, 5425 Wisconsin Avenue, Ste. 600, Chevy Chase, MD 20815; phone (301) 718-4432 or (301) 718-4431.

FERC Contact: Jennifer Adams; phone: (202) 502-8087.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14557-000.

More information about this project, including a copy of the application, can be viewed or printed on the “eLibrary” link of Commission's Web site at http://www.ferc.gov/docs-filing/elibrary.asp. Enter the docket number (P-14557) in the docket number field to access the document. For assistance, contact FERC Online Support.

Dated: October 7, 2013.
Kimberly D. Bose,
Secretary.

[FR Doc. 2013-24465 Filed 10-15-13; 8:45 am]

BILLING CODE 6717-01-P